DEPARTMENT OF HEALTH AND HUMAN SERVICES

Administration for Community Living

[OMB No. 0985-0048]

Agency Information Collection Activities; Proposed Collection; Public Comment Request; State Grants for Assistive Technology Program State Plan for Assistive Technology; [OMB# 0985-0048]

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the proposed renewal for the information collection requirements related to State Grants for Assistive Technology Program State Plan for Assistive Technology.

DATES: Submit written comments on the collection of information by June 14, 2021.

ADDRESSES: Submit written comments and recommendations for the proposed information collection within 30 days of publication of this notice to www.reginfo.gov/public/do/PRAMain.

Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Robert Groenendaal, Assistive Technology Program Manager, Center for Innovation and Partnership in the Office of Interagency Innovation Administration for Community Living, 330 C Street SW, Washington, DC 20201, Phone: 202-795-7356, Email: Robert.Groenendaal@acl.hhs.gov.

SUPPLEMENTARY INFORMATION: In compliance with 44 U.S.C. 3507, ACL has submitted the following proposed collection of information to OMB for review and clearance. ACL is requesting approval for the renewal of a data collection associated with the State Grants for Assistive Technology Program, State Plan for Assistive Technology.

The information collected through this data collection instrument is necessary for ACL and states to comply with Sections 4 and 7 of the Assistive Technology Act of 1998, as amended (AT Act). ACL is requesting a renewal of the state plan data collection instrument (OMB No. 0985-0048). Section 4 of the AT Act authorizes grants to public agencies in the 50 states and the District of Columbia, Puerto Rico, the Virgin Islands, Guam, American Samoa, and the Commonwealth of the Northern Marianas (states and outlying areas). With these funds, the 56 states and outlying areas operate “Statewide AT Programs” that conduct activities to increase access to and acquisition of assistive technology (AT) for individuals with disabilities and older Americans.

Divided into two comprehensive activity categories: “State-level Activities” and “State Leadership Activities,” according to Section 4 of the AT Act, as a condition of receiving a grant to support their Statewide AT Programs, the 56 states and outlying areas must provide to ACL: (1) Applications and (2) annual progress reports on their activities.

Applications: The application required of states and outlying areas is a three-year State Plan for Assistive Technology (State Plan for AT or State Plan) (OMB No. 0985-0048). The content of the State Plan for AT is based on the requirements in Section 4(d) of the AT Act.

Annual Reports: In addition to submitting a State Plan, every three years, states and outlying areas are required to submit annual progress reports on their activities. The data required in that progress report is specified in Section 4(f) of the AT Act (OMB No. 0985-0042).

National aggregation of data related to conducting required state-level and state leadership activities is necessary for the Government Performance and Results Modernization Act of 2010 (GPRAMA) (Pub. L. 111-352), as well as an Annual Report to Congress (see “Section 7 Requirements Necessitating Collection” below). Therefore, this data collection instrument provides a way for all 56 grantees—50 U.S. states, DC, Puerto Rico, the U.S. Virgin Islands, Guam, American Samoa, and the Commonwealth of the Northern Mariana Islands to collect and report data on their activities in a consistent manner, including a uniform survey to be given to consumers. This uniform survey is included as part of the Assistive Technology Annual Performance Report (APR) data collection package (OMB No. 0985-0042).

Section 7(d) of the AT Act requires that ACL submit to Congress an annual report on the activities conducted under the Act and an analysis of the progress of the states and outlying areas in meeting measurable goals. This report must include a compilation and summary of the data collected under Section 4(f). In order to make this possible, states and outlying areas must provide their data uniformly. This data collection instrument was developed to ensure that all 56 states and outlying areas report data in a consistent manner in alignment with the requirements of Section 4(f).

As stated above, ACL will use the information collected via this instrument to:

(1) Complete the annual report to Congress required by the AT Act;

(2) Comply with reporting requirements under the Government Performance and Results Modernization Act of 2010 (GPRAMA) (Pub. L. 111-352); and

(3) Assess the progress of states and outlying areas regarding measurable goals.

Data collected from the grantees will provide a national description of activities funded under the AT Act to increase the access to and acquisition of AT devices and services through statewide AT programs for individuals with disabilities. Data collected from grantees will also provide information for usage by Congress, the Department, and the public. In addition, ACL will use this data to inform program management, monitoring, and technical assistance efforts. States will be able to use the data for internal management and program improvement.

Comments in Response to the 60-Day Federal Register Notice

A notice published in the Federal Register on February 25, 2021 in FR 86 pg. 11545-11546. There were no public comments received during the 60-day FRN comment period.

Estimated Program Burden: ACL estimates the burden associated with this collection of information as follows:

Respondent/data collection activity | Number of respondents | Responses per respondent | Hours per response | Annual burden hours
State Plan for Assistive Technology | 56 | 1 | 73.0 | 4,088

Dated: May 11, 2021.
Alison Barkoff,
Acting Administrator and Assistant Secretary for Aging.

[FR Doc. 2021-10239 Filed 5-13-21; 8:45 am]

BILLING CODE 4154-01-P